DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 12, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Title: 2024-2025 National School Foods Study.

OMB Control Number: 0584-NEW.

Summary of Collection: This new information collection request is for the 2024-2025 National School Foods Study, which consists of three components: School Nutrition and Meal Cost Study-II (SNMCS-II) (OMB Control Number 0584-0648, expired 9/30/2022), School Food Purchase Study (SFPS-IV) (OMB Control Number 0584-0471, expired 3/31/2012. Later, a reinstatement with changes of a previously approved collection was submitted for SFPS-IV but withdrawn on 6/11/2021), and an evaluation of the Fresh Fruit and Vegetable Program (FFVP) (OMB Control Number 0584-0556, expired 06/30/2013).

The school meal programs administered by the Food and Nutrition Service (FNS) of the United States Department of Agriculture (USDA) are a cornerstone of the nation's nutrition safety net for low-income children. The 2024-2025 National School Foods Study continues the long-standing commitment of FNS to periodically assess the NSLP and SBP as well as the FFVP. It will provide a comprehensive picture of these programs in SY 2024-2025.

The Healthy, Hunger-Free Kids Act of 2010 (HHFKA) mandated substantial changes to the nutrition standards for school meals. These changes were implemented beginning in SY 2012-2013. The goal of the updated standards was to increase the alignment of school meals with the Dietary Guidelines for Americans and current information about the nutrient requirements of school-age children (Institute of Medicine 2010). Key reforms stemming from this legislation included new, more stringent meal pattern and nutrient requirements for school meals, new offer-versus-serve rules, gradually increased prices for paid meals, and the introduction of standards for competitive foods, called the Smart Snacks in School nutrition standards.

Need and Use of the Information: The study will collect a broad range of data from nationally representative samples of public SFAs and their State Distributing Agencies (SDA), schools, students, and parents/guardians during SY 2024-2025 in the 48 contiguous States and DC. These data will provide needed information about how federally sponsored school meal programs are operating over the 10 years following implementation of major reforms, including new nutrition standards that went into effect in SY 2012-2013 and more recent changes that will be in effect during SY 2024-2025.

Description of Respondents: State, Local and Tribal Governments, Businesses, Individuals and Households.

Number of Respondents: 22,571.

Frequency of Responses: Reporting: On occasion.

Total Burden Hours: 36,653.62.

Rachelle Ragland-Greene,
Departmental Information Collection Clearance Officer.

[FR Doc. 2024-10275 Filed 5-10-24; 8:45 am]

BILLING CODE 3410-30-P